DEPARTMENT OF JUSTICE

Antitrust Division

Notice Pursuant to the National Cooperative Research and Production Act of 1993—Medical Technology Enterprise Consortium

Notice is hereby given that, on October 7, 2024, pursuant to section 6(a) of the National Cooperative Research and Production Act of 1993, 15 U.S.C. 4301 et seq. (“the Act”), Medical Technology Enterprise Consortium (“MTEC”) has filed written notifications simultaneously with the Attorney General and the Federal Trade Commission disclosing changes in its membership. The notifications were filed for the purpose of extending the Act's provisions limiting the recovery of antitrust plaintiffs to actual damages under specified circumstances.

Specifically, Artery Studios, Inc., Toronto, CANADA; Astek Diagnostics, Inc., Halethorpe, MD; BBC Entrepreneurial Training and Consulting, LLC, Chelsea, MI; Bluestaq, LLC, Colorado Springs, CO; Carrtech Corp., Dickerson, MD; Concept Plus, LLC, Fairfax, VA; Crescel, LLC, Miami Beach, FL; Culmen International, LLC, Alexandria, VA; DeployX Services, Inc., McLean, VA; Digital For Mental Health, Paris, FRANCE; Emvision Medical Devices, Ltd., Macquarie Park, AUSTRALIA; Galapagos Federal Systems, LLC, Kihei, HI; GoDx, Inc., Madison, WI; Government Acquisitions, Inc., Cincinnati, OH; IntelliDyne, LLC, Vienna, VA; IRegained, Inc., Sudbury, CANADA; Northeastern University, Boston, MA; Nytricx, Inc., Athens, GA; Omnix Medical, Jerusalem, ISRAEL; Perfusio Corp., Greenville, NC; Protondx, Ltd., London, UNITED KINGDOM; PSC Biotech Corp., Pomona, CA; Razom, Inc., New York, NY; ReliOx Corp., Jacksonville, FL; SeaStar Medical, Inc., Denver, CO; SPEAR Human Performance, Inc., Tallahassee, FL; SPOC Proteomics, Inc., Scottsdale, AZ; TechWerks, LLC, Arlington Heights, IL; The Neutrino Donut, LLC, Culver City, CA; Unify Medical, Cleveland, OH; University of South Carolina, Columbia, SC; Wearabledose, Inc., Bowie, MD; Zeteo Tech, Inc., Sykesville, MD; and ZuluCare, LLC, Bethpage, NY, have been added as parties to this venture.

No other changes have been made in either the membership or planned activity of the group research project. Membership in this group research project remains open, and MTEC intends to file additional written notifications disclosing all changes in membership.

On May 9, 2014, MTEC filed its original notification pursuant to section 6(a) of the Act. The Department of Justice published a notice in the Federal Register pursuant to section 6(b) of the Act on June 9, 2014 (79 FR 32999).

The last notification was filed with the Department on June 28, 2024. A notice was published in the Federal Register pursuant to section 6(b) of the Act on September 16, 2024 (89 FR 75566).

Suzanne Morris,
Deputy Director Civil Enforcement Operations, Antitrust Division.

[FR Doc. 2024-30411 Filed 12-19-24; 8:45 am]

BILLING CODE P